SOCIAL SECURITY ADMINISTRATION

[Docket No. SSA 2024-0008]

Notice of Subscription Tier Structure Change for Our Electronic Consent Based Social Security Number Verification Service

AGENCY: Social Security Administration.

ACTION: Notice of subscription tier structure change.

SUMMARY: The Social Security Administration (SSA) is announcing a revision in the upper transactions limit to the upper subscription tier for the electronic Consent Based Social Security Number (SSN) Verification (eCBSV) service. In accordance with statutory requirements, a permitted entity (PE) is required to provide payment to reimburse SSA for the development and support of the eCBSV system.

DATES: Applicability date for subscription tier structure change: The revised subscription tier structure will go into effect for subscription payments made on or after April 22, 2024.

SUPPLEMENTARY INFORMATION: Section 215 of the Economic Growth, Regulatory Relief, and Consumer Protection Act ¹ (the Banking Bill) directed SSA to modify or develop a database for accepting and comparing fraud protection data ² provided electronically by a PE.³ In response to this statutory directive, SSA created eCBSV, a fee-based SSN verification service. eCBSV allows PEs to submit, based on the number holder's consent,⁴ the SSN, name, and date of birth of the number holder in connection with a credit transaction or a circumstance described in section 604 of the Fair Credit Reporting Act to SSA for verification via an application programming interface. Each PE must submit a certification statement ⁵ that the PE is in compliance with the Banking Bill as part of their application to SSA.

¹ Public Law 115-174, codified at 42 U.S.C. 405b.

² The Banking Bill defines “Fraud Protection Data” to mean a combination of an individual's name (including the first name and any family forename or surname), SSN, and date of birth (including month, day, and year). Public Law 115-174, title II, 215(b)(3), codified at 42 U.S.C. 405b(b)(3).

³ The Banking Bill defines a “permitted entity” to mean a financial institution or service provider, subsidiary, affiliate, agent, subcontractor, or assignee of a financial institution. Public Law 115-174, title II, 215(b)(4), codified at 42 U.S.C. 405b(b)(4). They must possess an Employer Identification Number and a Dun and Bradstreet number.

⁴ Under the eCBSV User Agreement, valid Written Consent must meet the requirements of applicable Federal law, SSA's regulations, and section IV of the eCBSV User Agreement. Valid Written consent must include a wet or electronic signature. Section IV A.1. eCBSV User Agreement. Electronic signatures must meet the definition in section 106 of the Electronic Signatures in Global and National Commerce Act (15 U.S.C. 7006). 42 U.S.C. 405b(f)(2); section IV. E. eCBSV User Agreement. The written consent must clearly specify to whom the information may be disclosed, the information you want us to disclose (e.g., SSN verification) and, where applicable, during which timeframe the information may be disclosed (e.g., whenever the subject individual is receiving specific services). 20 CFR 401.100.

⁵ The permitted entity must certify that (1) the entity is a permitted entity; (2) the entity is in compliance with section 215; (3) the entity is, and will remain, in compliance with its privacy and data security requirements in title V of 15 U.S.C. 6801, et seq., with respect to the information the entity receives from the Commissioner of Social Security pursuant to this section; and (4) the entity will retain sufficient records to demonstrate its compliance with its certification and section 215 for a period of not less than 2 years. 42 U.S.C. 405b(e)(1)-(3).

SSA revised the subscription tier structure for eCBSV in 2023.⁶ Based on feedback from PEs, we are increasing the upper limit on Tier 10 transactions from 75 million to 200 million transactions. All fees and other subscription tiers remain unchanged.

⁶ 88 FR 29959 (May 9, 2023).

Fees

The public cost burden is dependent upon the number of PEs using the service and the annual transaction volume. We based the revised tier fee schedule below on 20 participating PEs in fiscal year (FY) 2024 submitting an anticipated volume of 52 million transactions. The total cost for developing and operating the service is $62 million through FY 2023. Of this amount, $37 million remains unrecovered/unreimbursed. The subscription tier structure and associated fees are intended to recover these costs over a four-year period, assuming projected enrollments and transaction volumes meet these projections.

eCBSV Tier Fee Schedule
Tier | Annual volume threshold | Annual fee
1 | Up to 10,000 (1-10,000) | $7,000
2 | Up to 200,000 (10,001-200,000) | 130,000
3 | Up to 1 million (200,001-1 million) | 630,000
4 | Up to 2.5 million (1,000,001-2.5 million) | 1,500,000
5 | Up to 5 million (2,500,001-5 million) | 3,000,000
6 | Up to 10 million (5,000,001-10 million) | 4,500,000
7 | Up to 15 million (10,000,001-15 million) | 5,000,000
8 | Up to 20 million (15,000,001-20 million) | 6,250,000
9 | Up to 25 million (20,000,001-25 million) | 7,250,000
10 | Up to 200 million (25,000,001-200 million) | 8,250,000

Each enrolled PE will be required to remit the above tier-based subscription fee for the 365-day agreement period starting on or after April 22, 2024.

Fees are calculated based on forecasted systems and operational expenses, agency oversight, overhead, and Certified Public Accountant audit contract costs.

Section 215(h)(1)(B) of the Banking Bill, 42 U.S.C. 405b(h), requires that the Commissioner shall “periodically adjust” the price paid by users to ensure that amounts collected are sufficient to fully offset the costs of administering the eCBSV system. On at least an annual basis, SSA will monitor costs incurred to provide eCBSV services and will revise the tier fee schedule accordingly. We will notify PEs of the tier fee schedule in effect at the renewal of eCBSV user agreements, when a PE begins a new 365-day agreement period, and via notice in the Federal Register. PE renewals will be governed by the tier in effect at the time of renewal.

For further information contact Christopher David, Office of Data Exchange, Policy Publications, and International Negotiations, Social Security Administration, 6401 Security Boulevard, Baltimore, Maryland 21235-6401, (866) 395-8801, email eCBSV@ssa.gov. For information on eligibility or filing for benefits, call SSA's national toll-free number, 1-800-772-1213 or TTY 1-800-325-0778, or visit SSA's internet site, Social Security Online, at https://www.socialsecurity.gov.

Chad Poist,
Deputy Commissioner, Office of Budget, Finance, and Management, Social Security Administration.

[FR Doc. 2024-08152 Filed 4-16-24; 8:45 am]

BILLING CODE 4191-02-P